DEPARTMENT OF THE TREASURY

Office of Thrift Supervision

Submission for OMB Review; Comment Request

April 6, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, D.C. 20552.

DATES: Submit written comments on or before May 30, 2000.

OMB Number: 1550-0092.

Form Number: Not applicable.

Type of Review: Regular.

Title: Deposits.

Description: 12. CFR Part 557 relies on the disclosure requirements applicable to savings associations under the Federal Reserve Board's Regulation DD (12 CFR Part 230). The information required by Regulation DD is needed by OTS in order to supervise savings associations and develop regulatory policy.

Respondents: Savings and Loan Associations and Savings Banks.

Estimated Number of Responses: 1,104.

Estimated Burden Hours Per Response: 1,484 hours.

Frequency of Response: Once per event.

Estimated Total Reporting Burden: 1,638,704 hours.

Clearance Officer: Mary Rawlings-Milton, (202) 906-6028, Office of Thrift Supervision, 1700 G Street, NW., Washington, D.C. 20552.

OMB Reviewer: Alexander Hunt, (202) 395-7860, Office of Management and Budget, Room 10202, New Executive Office Building, Washington, D.C. 20503.

John E. Werner,
Director, Information & Management Services Division.

[FR Doc. 00-10449 Filed 4-26-00; 8:45 am]

BILLING CODE 6720-01-P